NUCLEAR REGULATORY COMMISSION

[Docket Nos. 50-302 and 72-1035; CEQ ID AXX-429-00-000-1753260507; NRC-2025-0181]

Accelerated Decommissioning Partners Crystal River, Unit 3, LLC; Crystal River Nuclear Power Station, Unit 3; Environmental Assessment and Finding of No Significant Impact

AGENCY: Nuclear Regulatory Commission.

ACTION: Notice; issuance.

SUMMARY: The U.S. Nuclear Regulatory Commission (NRC) is considering a partial site release of property under License No. DPR-72, issued in December 1976 and held by Accelerated Decommissioning Partners Crystal River, Unit 3, LLC (ADP) for the operation of Crystal River Nuclear Power Station, Unit 3 (Crystal River Unit 3). If approved, the license amendment would release property from the NRC license and thus render it no longer under NRC jurisdiction. Based on staff's environmental review, the NRC staff is issuing this environmental assessment (EA) and finding of no significant impact (FONSI) associated with the proposed action.

DATES: The EA and FONSI are available in this document.

ADDRESSES: Please refer to Docket ID NRC-2025-0181 when contacting the NRC about the availability of information regarding this document. You may obtain publicly available information related to this document using any of the following methods:

• Federal Rulemaking Website: Go to https://www.regulations.gov and search for Docket ID NRC-2025-0181. Address questions about Docket IDs in Regulations.gov to Bridget Curran; telephone: 301-415-1003; email: Bridget.Curran@nrc.gov. For technical questions, contact the individual(s) listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Amy Minor, Office of Nuclear Material Safety and Safeguards, U.S. Nuclear Regulatory Commission, Washington, DC 20555-0001; telephone: 817-200-1454; email: Amy.Hesterminor@nrc.gov.

SUPPLEMENTARY INFORMATION:

I. Introduction

The NRC received, by letter dated February 10, 2025, as supplemented by letter dated June 18, 2025, a request from ADP to approve a partial site release of approximately 250 hectares (ha) (618 acres (ac)) of land for unrestricted use, and to amend License No. DPR-72 to reduce the site acreage identified in the Crystal River Unit 3 Operating License accordingly. Therefore, in compliance with section 50.83 of title 10 of the Code of Federal Regulations (10 CFR), “Release of part of a power reactor facility or site for unrestricted use,” the NRC performed an EA. Based on the results of the EA that follows, the NRC has determined not to prepare an environmental impact statement (EIS) for the partial site release and is issuing a FONSI regarding ADP's request for a partial site release for License No. DPR-72.

II. Environmental Assessment

Description of the Proposed Action

The proposed action is the review of the release of approximately 250 ha (618 ac) of land for unrestricted use and to remove another 1,560 ha (3,854 ac) of property, classified as radiologically non-impacted, from the Crystal River Unit 3 Operating License as approved on January 2, 2020 (ADAMS Accession No. ML19339G509). If the proposed action is approved, an additional 250 ha (618 ac) would no longer be part of the licensed site and thus, no longer under NRC jurisdiction. The licensee plans to release the 250 ha (618 ac) as soon as approval is received from the NRC and indicates that the property will then be returned to Duke Energy, the original license holder.

Purpose and Need

The licensee has requested the release of 250 ha (618 ac) of land that is entirely within the NRC-licensed area, or controlled area, and remove another 1,560 ha (3,854 ac) of property, from the Crystal River Unit 3 Operating License. The purpose and need for the proposed agency action is to release 250 ha (618 ac) of the licensed site for which the licensee has no further operational need and reduce the site acreage identified in the Crystal River Unit 3 Operating License accordingly.

Prior Environmental Reviews

The NRC staff evaluated the environmental impacts of the proposed action for the unrestricted release of approximately 250 ha (618 ac) of land and amending License No. DPR-72 to reflect the description of the property released and reduce the site acreage identified in the Crystal River Unit 3 Operating License. Maps of the parcels proposed to be released are included in the licensee's application dated February 10, 2025, as supplemented by letter dated June 18, 2025.

Several environmental reviews have been completed for Crystal River Unit 3, most recently in 2024. A final environmental statement for Crystal River Unit 3 was completed in 1973 as required for the issuance of a license to the Florida Power Corporation for the startup and operation of Crystal River Unit 3. Florida Power Corporation, doing business as Progress Energy Florida, Inc., submitted a license renewal request to NRC in November 2008. The NRC staff completed a May 2011 draft report for comment, NUREG-1437, “Generic Environmental Impact Statement for License Renewal of Nuclear Plants, Supplement 44, Regarding Crystal River Unit 3 Nuclear Generating Plant,” that evaluated environmental impacts from a renewed operating license for an additional 20-year period.

On December 2, 2013, Duke Energy Florida (DEF) submitted a post-shutdown decommissioning activities report (PSDAR) to the NRC that includes a discussion providing the basis for concluding that the environmental impacts associated with decommissioning activities were bounded by appropriate, previously issued, EISs including aforementioned NUREG-1437 and NUREG-0586, “Final Generic Environmental Impact Statement on Decommissioning of Nuclear Facilities: Supplement 1, Regarding the Decommissioning of Nuclear Power Reactors” (Decommissioning GEIS), and that no unique site-specific features or unique aspects of the planned decommissioning were identified. The scope of the Decommissioning GEIS is based on decommissioning activities undertaken from the time a licensee certifies it has permanently ceased power operations until the operating license is terminated.

On January 22, 2019, DEF submitted a partial site release request to NRC and stated that the environmental impacts associated with the proposed release of the property were considered compared to the 1973 final environmental statement. DEF confirmed that their evaluation did not identify any significant new environmental impacts or any significant changes from the environmental impacts that NRC previously assessed, and therefore they concluded that previous NRC reviews bounded the potential environmental impacts of the partial site release.

DEF's January 2019 partial site release request to the NRC sought to reduce the licensed footprint by releasing 1,560 ha (3,854 ac) of non-impacted parcels. The NRC approved the release of the parcels in 2020 and stated that the environmental impacts associated with the proposed release of the property are bounded by previously issued EISs. NRC License No. DPR-72 changed ownership to ADP in 2019, and in 2019 APD submitted a revised PSDAR to NRC that again concluded that the environmental impacts associated with decommissioning activities were bounded by appropriate, previously issued, EISs.

ADP submitted a revised license termination plan to the NRC on June 9, 2023. The NRC staff completed an EA in 2024 that evaluated the potential impacts of decommissioning and license termination for Crystal River Unit 3. During its review, the NRC staff concluded that the impacts for most resource areas at the Crystal River Unit 3 were still bounded by the Decommissioning GEIS. NRC's 2024 EA also evaluated the potential impacts of decommissioning and license termination for the Crystal River Unit 3 that cannot be determined generically in the Decommissioning GEIS. The NRC staff concluded that there are no significant environmental impacts from decommissioning and license termination and issued the EA and FONSI published on July 17, 2024.

Environmental Impacts of the Proposed Action

ADP's application states that the June 2023 revised license termination plan included a “Supplement to the Environmental Report” that provided updated information to the November 2008 environmental report submitted to the NRC as part of a 2008 license renewal application for Crystal River Unit 3. The licensee's evaluation of the proposed site release does not identify any significant new environmental impacts or any significant changes from the environmental impacts previously assessed. ADP concludes that the environmental impacts associated with the proposed release of the subject property are bound by the NRC' s previous reviews and no increases in effects are anticipated.

The NRC staff reviewed ADP's application for the proposed partial site release of 250 ha (618 ac) of land and amending the license to reflect the description of the property released. The licensee notes that approximately 248 ha (614 ac) proposed for unrestricted release are considered non-impacted by a historical site assessment as supplemented by surveys provided in the license application request (LAR). Two of the parcels proposed for unrestricted release (North Shipping Yard and Seal and Container Storage Area) were conservatively deemed as impacted areas in a past site assessment but are now identified as indistinguishable from background based on final status surveys provided in this LAR. The NRC has determined that the licensee has no physical security or emergency preparedness need to retain the remaining 250 ha (618 ac). In addition, the licensee has performed surveys adequate to demonstrate compliance with the radiological criteria for unrestricted use. The NRC staff concludes that the proposed action of amending the license does not include physical changes to the site and that the potential environmental impacts associated with this request remain bounded by the environmental impacts evaluated in the previous NRC environmental reviews, notably the NRC's 2024 EA, because the activities and geographic area that were evaluated in those previous NRC environmental reviews are consistent with the proposed partial site release. A Safety Evaluation Report is being prepared in parallel with this EA to assess the licensee's compliance with the radiological criteria for unrestricted use.

Environmental Impacts of the Alternatives to the Proposed Action

As an alternative to the proposed action, The NRC staff considered denial of the proposed release of the approximate 250 ha (618 ac) of land (i.e., the “no-action” alternative). Denial of the request would result in the 250 ha (618 ac) of land to remain as part of the licensed site and subject to NRC jurisdiction, even though the licensee has no operational need for the land. This alternative would not result in additional environmental impacts. However the NRC staff have determined that the proposed action does not include physical changes to the site and there is no policy or regulatory reason here for the NRC to require this licensee to retain the 250 ha (618 ac) of land for which the licensee has no further operational need. As such, the NRC staff concludes that the proposed action is the preferred alternative and the no-action alternative is not further considered.

Conclusion

The NRC staff determined that the proposed action does not include physical changes to the site and is administrative in nature, and that the potential environmental impacts associated with this request remain bounded by the environmental impacts evaluated in the previous NRC environmental review, to include the 2024 EA, because the activities and geographic area that were evaluated in those previous NRC environmental reviews are consistent with the proposed partial site release. As such, the NRC finds that there are no significant environmental impacts from the proposed action, and that preparation of an EIS is not warranted.

Agencies and Persons Consulted

A public meeting to obtain comments on the release approval request was announced on the NRC public meeting website at https://www.nrc.gov/pmns/mtg. A notice of ADP's request and the public meeting, including a request for comment, was also published in the Citrus County Chronicle, Inverness, Florida, on July 9 and 16, 2025. The NRC staff published a notice of the receipt of ADP's request, including a request for comment, in the Federal Register on July 2, 2025. The NRC staff conducted the public meeting in Crystal River, Florida, on July 23, 2025. A summary of the public meeting, which includes copies of the presentations made and a copy of the transcript of the meeting, is available in ADAMS at Accession No. ML25218A083. No comments were made on the Federal Rulemaking website, or were received by mail or email, and no questions were asked at the meeting.

The NRC contacted the Florida State officials on August 19, 2025 (ADAMS Accession No. ML25261A016) concerning this request. There were no comments, concerns or objections from the State officials.

III. Finding of No Significant Impact

The NRC staff has prepared this EA as part of its review of the proposed action. On the basis of this EA, the NRC finds that there are no significant environmental impacts from the proposed action, and that preparation of an EIS is not warranted. Accordingly, the NRC has determined that a FONSI is appropriate. In accordance with 10 CFR 51.32(a)(4), this FONSI incorporates the EA set forth in this notice by reference.

IV. Availability of Documents

The documents identified in the following table are available to interested persons through one or more of the following methods, as indicated.

Document description | ADAMS accession No./ web link/Federal Register citation
Partial Site Release Request, dated February 10, 2025 | ML25041A177 (Package).
Partial Site Release Request, dated June 18, 2025 | ML25170A017 (Package).
Final Environmental Statement Related to the Proposed Crystal River Unit 3, Florida Power Corporation, published May 1973 | ML091520178.
Crystal River License Termination Plan Environmental Assessment, published July 2024 | ML24081A068.
Federal Register Notice, Accelerated Decommissioning Partners Crystal River Unit 3, LLC; Crystal River Nuclear Power Station, Unit 3; Environmental Assessment and Finding of No Significant Impact, published July 17, 2024 | 89 FR 58196.
Federal Register Notice, Accelerated Decommissioning Partners Crystal River Unit 3, LLC; Crystal River Unit 3 Nuclear Generating Plant; Partial Site Release, published July 2, 2025 | 90 FR 29051.
NUREG-1437, Generic Environmental Impact Statement for License Renewal of Nuclear Plants, Supplement 44, Regarding Crystal River Unit 3 Nuclear Generating Plant, published May 2011 | ML11139A153.
Letter—Post-shutdown Decommissioning Activities Report, dated December 2, 2013 | ML13340A009.
NUREG-0586, Final Generic Environmental Impact Statement on Decommissioning of Nuclear Facilities: Supplement 1, Regarding the Decommissioning of Nuclear Power Reactors, Volumes 1 and 2, date published November 2002 | ML023470304, ML023470323, ML023500187, ML023500211, ML023500223.
Letter—Partial Site Release Request, dated January 22, 2019 | ML19022A076.
Letter—Revised Post-shutdown Decommissioning Activities Report, dated June 26, 2019 | ML19177A080.
Letter—NRC Approval of Partial Site Release, dated January 2, 2020 | ML19339G509.
Letter—Revised License Termination Plan, dated June 9, 2023 | ML23160A296.
Crystal River Unit 3 License Renewal Application, published November 2008 | ML090080731.
Submittal to Florida State officials | ML25261A016.

Dated: September 25, 2025.
For the Nuclear Regulatory Commission.
Robert Sun,
Chief, Environmental Project Management, Branch 2, Division of Rulemaking, Environmental, and Financial Support, Office of Nuclear Material Safety and Safeguards.

[FR Doc. 2025-18817 Filed 9-26-25; 8:45 am]

BILLING CODE 7590-01-P